ENVIRONMENTAL PROTECTION AGENCY

[FRL-9707-9]

Notification of Two Public Teleconferences of the Science Advisory Board; Environmental Economics Advisory Committee

AGENCY: Environmental Protection Agency (EPA).

ACTION: Notice.

SUMMARY: The Environmental Protection Agency (EPA) Science Advisory Board (SAB) Staff Office announces two public teleconferences of the SAB Environmental Economics Advisory Committee to discuss its draft review of EPA's White Paper “Retrospective Study of the Costs of EPA Regulations: An Interim Report” (March 2012 draft).

DATES: The public teleconferences will be held on Friday, September 7, 2012 from 11 a.m. to 3 p.m. (Eastern Daylight Time) and Friday, November 2, 2012 from 11 a.m. to 3 p.m. (Eastern Daylight Time).

ADDRESSES: The teleconferences will be conducted by telephone only.

FOR FURTHER INFORMATION CONTACT: Any member of the public who wants further information concerning the meeting may contact Dr. Holly Stallworth, Designated Federal Officer (DFO), EPA Science Advisory Board (1400R), U.S. Environmental Protection Agency, 1300 Pennsylvania Avenue NW., Washington, DC 20460; via telephone/voice mail (202) 564-2073; fax (202) 565-2098; or email at stallworth.holly@epa.gov. General information concerning the SAB can be found on the SAB Web site at http://www.epa.gov/sab.

SUPPLEMENTARY INFORMATION: Background: Pursuant to the Federal Advisory Committee Act (FACA), as amended, 5 U.S.C., App., notice is hereby given that the SAB Environmental Economics Advisory Committee (EEAC) will hold public teleconference to discuss its draft report reviewing the EPA report “Retrospective Study of the Costs of EPA Regulations: An Interim Report” (March 2012 draft). The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

EPA's white paper “Retrospective Study of the Costs of EPA Regulations: An Interim Report” (March 2012 draft) summarizes EPA's initial findings from a small number of pilot case studies that attempt to evaluate the costs of EPA's regulations after they were implemented (ex post). To improve future benefit-cost analyses, EPA is seeking to compare its predictions of costs (ex ante costs) with actual (ex post) costs and, if they differ substantially, to understand why. EPA has requested the SAB's review of its approach to assessing ex post costs as detailed in its draft paper. Additional background on this SAB EEAC review and announcement of two previous teleconferences is provided in 77 FR 17475-17476. The most current SAB EEAC draft report will be posted on the SAB Web site prior to each teleconference. These draft reports, meeting agendas and any other meeting materials may be found at http://yosemite.epa.gov/sab/sabproduct.nsf/fedrgstr_activites/Retrospective%20Cost%20Study?OpenDocument.

Technical Contacts: Any questions concerning EPA's White Paper should be directed to Dr. Nathalie Simon, NCEE at (202) 566-2347 or simon.nathalie@epa.gov.

Availability of Meeting Materials: A meeting agenda, charge questions, and other materials for the teleconferences will be placed on the SAB Web site at www.epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group conducting this advisory activity, EPA's charge, or meeting materials. Input from the public to the SAB will have the most impact if it consists of comments that provide specific scientific or technical information or analysis for the SAB to consider. Members of the public wishing to provide comment should contact the Designated Federal Officer for the relevant advisory committee directly.

Oral Statements: In general, individuals or groups requesting an oral presentation at a public teleconference will be limited to five minutes per speaker. To be placed on the public speaker list for the September 7, 2012 meeting, interested parties should notify Dr. Holly Stallworth, DFO, by email no later than August 31, 2012. To be placed on the public speaker list for the November 2, 2012 teleconference, interested parties should notify Dr. Holly Stallworth by October 26, 2012.

Written Statements: Written statements for these teleconferences should be received in the SAB Staff Office by the same deadlines given above for requesting oral comments. Written statements should be supplied to the DFO via email (acceptable file format: Adobe Acrobat PDF, MS Word, WordPerfect, MS PowerPoint, or Rich Text files in IBM-PC/Windows 98/2000/XP format).

Accessibility: For information on access or services for individuals with disabilities, please contact Dr. Stallworth at the phone number or email address noted above, preferably at least ten days prior to the meeting, to give EPA as much time as possible to process your request.

Dated: July 23, 2012.
Thomas H. Brennan,
Deputy Director, EPA Science Advisory Board Staff Office.

[FR Doc. 2012-18796 Filed 7-31-12; 8:45 am]

BILLING CODE 6560-50-P